INTERNATIONAL TRADE COMMISSION

[Investigation Nos. 731-TA-753, 754, and 756 (Third Review)]

Cut-to-Length Carbon Steel Plate From China, Russia, and Ukraine

Determinations

On the basis of the record¹ developed in the subject five-year reviews, the United States International Trade Commission (“Commission”) determines, pursuant to the Tariff Act of 1930, that revocation of the antidumping duty order on cut-to-length carbon steel plate from China and termination of the suspended antidumping duty investigations on cut-to-length carbon steel plate from Russia and Ukraine would be likely to lead to continuation or recurrence of material injury to an industry in the United States within a reasonably foreseeable time.²

¹ The record is defined in sec. 207.2(f) of the Commission's Rules of Practice and Procedure (19 CFR 207.2(f)).

² Chairman Broadbent and Commissioner Kieff dissenting with respect to the suspended investigation on cut-to-length carbon steel plate from Ukraine.

Background

The Commission, pursuant to section 751(c) of the Tariff Act of 1930 (19 U.S.C. 1675(c)), instituted these reviews on October 1, 2014 (79 FR 59294) and determined on January 5, 2015 that it would conduct full reviews (80 FR 2443, January 16, 2015). Notice of the scheduling of the Commission's reviews and of a public hearing to be held in connection therewith was given by posting copies of the notice in the Office of the Secretary, U.S. International Trade Commission, Washington, DC, and by publishing the notice in the Federal Register on March 23, 2015 (80 FR 15251). The hearing was held in Washington, DC, on September 29, 2015, and all persons who requested the opportunity were permitted to appear in person or by counsel.

The Commission made these determinations pursuant to section 751(c) of the Tariff Act of 1930 (19 U.S.C. 1675(c)). It completed and filed its determinations in these reviews on December 3, 2015. The views of the Commission are contained in USITC Publication 4581 (December 2015), entitled Cut-to-Length Carbon Steel Plate from China, Russia, and Ukraine: Investigation Nos. 731-753, 754, and 756 (Third Review).

By order of the Commission.
Issued: December 3, 2015.
Lisa R. Barton,
Secretary to the Commission.

[FR Doc. 2015-30954 Filed 12-8-15; 8:45 am]

BILLING CODE 7020-02-P